DEPARTMENT OF LABOR

Employment and Training Administration

[TA-W-59,984]

Schmald Tool & Die, Inc.; Burton, MI; Notice of Termination of Investigation

Pursuant to Section 221 of the Trade Act of 1974, as amended, an investigation was initiated on August 30, 2006, in response to a petition filed by a company official on behalf of workers of Schmald Tool & Die, Inc., Burton, Michigan.

The petitioner has requested that the petition be withdrawn. Consequently, the investigation has been terminated.

Signed in Washington, DC, this 13th day of September, 2006.
Linda G. Poole,
Certifying Officer, Division of Trade Adjustment Assistance.

[FR Doc. E6-15635 Filed 9-20-06; 8:45 am]

BILLING CODE 4510-30-P